DEPARTMENT OF DEFENSE

Office of the Secretary

Defense Advisory Committee on Investigation, Prosecution, and Defense of Sexual Assault in the Armed Forces; Notice of Federal Advisory Committee Meeting

AGENCY: Department of Defense (DoD).

ACTION: Notice of Federal advisory committee meeting.

SUMMARY: The DoD is publishing this notice to announce that the following Federal Advisory Committee meeting of the Defense Advisory Committee on Investigation, Prosecution, and Defense of Sexual Assault in the Armed Forces (DAC-IPAD) will take place.

DATES: Tuesday, September 17, 2024—Open to the public from 12:00 p.m. to 4:30 p.m. All times are Eastern Daylight Time (EDT).

ADDRESSES: This meeting is being held virtually. For virtual access to the meeting, email your request along with your name and contact information to the DAC-IPAD public email at whs.pentagon.em.mbx.dacipad@mail.mil.

FOR FURTHER INFORMATION CONTACT: Dwight Sullivan, 703-695-1055 (Voice), dwight.h.sullivan.civ@mail.mil (Email). Mailing address is DACIPAD, One Liberty Center, 875 N Randolph Street, Suite 150, Arlington, Virginia 22203. Website: https://dacipad.whs.mil/. The most up-to-date changes to the meeting agenda can be found on the website.

SUPPLEMENTARY INFORMATION: This meeting is being held under the provisions of chapter 10 of title 5 (formerly known as the Federal Advisory Committee Act of 1972 or “FACA”), the Government in the Sunshine Act of 1976 (5 United States Code (U.S.C.) 552b, as amended), and 41 Code of Federal Regulations (CFR) 102-3.140 and 102-3.50.

Purpose of the Meeting: In section 546 of the National Defense Authorization Act (NDAA) for Fiscal Year (FY) 2015 (Public Law (Pub. L.) No. 113-291), as modified by section 537 of the NDAA for FY 2016 (Pub. L. 114-92), Congress tasked the DAC-IPAD to advise the Secretary of Defense on the investigation, prosecution, and defense of allegations of rape, sexual assault, and other sexual misconduct involving members of the Armed Forces. This will be the thirty-seventh public meeting held by the DAC-IPAD. For its first session, the DAC-IPAD will deliberate proposed findings and recommendations regarding provisions under Article 6b, Uniform Code of Military Justice, for enforcing victims' rights. After lunch the DAC-IPAD will deliberate and discuss the DAC-IPAD's recent military installation site visits to identify possible areas of future studies. Next, the DAC-IPAD will hear comments from the public, then receive updates from the DAC-IPAD subcommittees. After a brief meeting wrap-up, the public meeting will adjourn.

Agenda:

12:00 p.m.-12:05 p.m. Welcome and Introduction to Public Meeting;

12:05 p.m.-1:15 p.m. DAC-IPAD Deliberations on Recommendations for Enforcing Victims' Article 6b Rights;

1:15 p.m.-2:00 p.m. Lunch;

2:00 p.m.-3:00 p.m. DAC-IPAD Deliberations on Emerging Issues Identified on Military Installation Site Visits;

3:00 p.m.-3:10 p.m. Break;

3:10 p.m.-3:30 p.m. DAC-IPAD Deliberations on Emerging Issues Identified on Military Installation Site Visits (continued);

3:30 p.m.-4:00 p.m. Public Comment;

4:00 p.m.-4:30 p.m. DAC-IPAD Subcommittee Updates and Meeting Wrap up;

4:30 p.m. Public Meeting Adjourned.

Meeting Accessibility: Pursuant to 5 U.S.C. 552b and 41 CFR 102-3.140 through 102-3.165, this meeting is open to the public from 12:00 p.m. to 4:30 p.m. on September 17, 2024. All members of the public who wish to participate virtually must register by contacting DAC-IPAD at whs.pentagon.em.mbx.dacipad@mail.mil or by contacting Mr. Pete Yob at (703) 693-3857 no later than 11 a.m., Tuesday, September 17, 2024. Once registered, the web address and/or audio number will be provided.

Special Accommodations: Individuals requiring special accommodations to access the public meeting should contact Mr. Pete Yob at (703) 693-3857 no later than September 10, 2024, so that appropriate arrangements can be made.

Written Statements: Pursuant to 41 CFR 102-3.140 and 5 U.S.C. 10(a)(3) of the FACA, the public or interested organizations may submit written comments to the DAC-IPAD about its mission and topics pertaining to this public session. Written comments must be received by the DAC-IPAD at least five (5) business days prior to the meeting date so that they may be made available to the DAC-IPAD members for their consideration prior to the meeting. Written comments not received by the DAC-IPAD at least five (5) business days prior to the meeting date, or after, will be provided to the Chair of the DAC-IPAD for consideration. Written comments may be submitted via email to the DAC-IPAD at whs.pentagon.em.mbx.dacipad@mail.mil in the following formats: Adobe Acrobat or Microsoft Word. Written comments may also be mailed to the address listed in FOR FURTHER INFORMATION CONTACT. Please note that since the DAC-IPAD operates under the provisions of the FACA, all written comments received will be treated as public documents and will be made available for public inspection.

Oral public comments: Individuals may submit a request to make an oral public comment at the September 17, 2024 meeting. Advance copy of oral public comments must be sent via email at whs.pentagon.em.mbx.dacipad@mail.mil with the subject line “DAC-IPAD: Request to Speak <insert the issue and question>” no later than 11:59 p.m. EDT on Tuesday, September 10, 2024. Submissions received after the deadline will not be considered for oral public comment but will be provided to the Chair of the DAC-IPAD for consideration. All submitted oral comments become government property and may be published as part of the meeting record. Registration for oral public comment is on a first-come, first-served basis. Comments are limited to five (5) minutes or less per person. After the maximum number of speakers is exceeded, individuals registered to provide oral comment will be placed on a wait list and notified should an opening become available. Should time expire for oral public comments those not presented will be provided to the Chair of the DAC-IPAD for consideration. You will be notified via email no later than September 17, 2024 if you have been identified to provide in-person public comment.

Dated: August 16, 2024.
Patricia L. Toppings,
OSD Federal Register Liaison Officer, Department of Defense.

[FR Doc. 2024-18755 Filed 8-20-24; 8:45 am]

BILLING CODE 6001-FR-P